DEPARTMENT OF TRANSPORTATION

Federal Highway Administration

Request for Nominations for the Federal System Funding Alternative Advisory Board to the Federal Highway Administration

AGENCY: Federal Highway Administration (FHWA), U.S. Department of Transportation (DOT).

ACTION: Notice to solicit members for the Federal System Funding Alternative Advisory Board.

SUMMARY: The FHWA announces a solicitation of Membership to the Federal System Funding Alternative Advisory Board (Advisory Board). Advisory Board members will serve for 2 years after the date on which the Advisory Board is established, with the potential for reappointment. The Advisory Board will assist with providing the Secretary of Transportation (Secretary) with recommendations related to the structure, scope, and methodology for developing and implementing the national motor vehicle per-mile user fee pilot program; assist with carrying out a public awareness campaign; assist with developing reports to Congress analyzing the national motor vehicle per-mile user fee pilot program; and coordinate in the development of the recommendations and a report to Congress required under the Strategic Innovation for Revenue Collection Pilot Program.

DATES: The deadline for nominations for Advisory Board membership is November 17, 2023.

ADDRESSES: All nomination materials should be emailed to NVPMF@dot.gov or mailed attention to Ms. Angela Fogle, Federal Highway Administration, Office of Operations, Room E86-204, 1200 New Jersey Avenue SE, Washington, DC 20590. Any person needing accessibility accommodations should contact Angela Fogle at (202) 366-0076.

FOR FURTHER INFORMATION CONTACT: Ms. Angela Fogle, Office of Operations, (202) 366-0076 or NVPMF@dot.gov; 1200 New Jersey Avenue SE, Washington, DC 20590; or Ms. Alissa Dolan, Office of the Chief Counsel, 1200 New Jersey Avenue SE, Washington, DC 20590, (202) 631-3393 or via email at Alissa.Dolan@dot.gov.

SUPPLEMENTARY INFORMATION: Section 13002(g)(1) of the Bipartisan Infrastructure Law (BIL), enacted as the Infrastructure Investment and Jobs Act (Pub. L. 117-58) requires the establishment of the Advisory Board. Under this section, the Advisory Board will assist with providing the Secretary with recommendations related to the structure, scope, and methodology for developing and implementing the national motor vehicle per-mile user fee pilot program under section 13002(b); carrying out the public awareness campaign detailed in section 13002(h); and developing the report to Congress required by section 13002(n). In addition, section 13001(d) of the BIL requires the Secretary, in coordination with the Secretary of the Treasury and the Advisory Board, to submit to Congress a report that: (1) summarizes the results of the Strategic Innovation for Revenue Collection pilot projects and the national motor vehicle per-mile user fee pilot program; and (2) provides recommendations, if applicable, to enable potential implementation of a nationwide user-based alternative revenue mechanism.

Pursuant to section 9 of the Federal Advisory Committee Act (FACA), and in accordance BIL section 13002(g)(1), the Secretary has established the Advisory Board. This document gives notice of this process to potential participants and affords them the opportunity to request representation on the Advisory Board. The procedure for requesting such representation is set out below. The FHWA is aware that there are many more potential organizations and participants than there are membership slots on the Advisory Board. Organizations and participants should be prepared to support their participation on the Advisory Board.

Members serve at the pleasure of the Secretary. Advisory Board members will be appointed for a 2-year term with the potential for reappointment. The Secretary may extend appointments and may appoint replacements for members who have resigned outside of a stated term, as necessary. Advisory Board members may continue to serve until their replacements have been appointed.

The FHWA is hereby soliciting nominations for members of the Advisory Board. The Secretary will appoint, at a minimum, the following representatives and entities:

(1) State departments of transportation;

(2) Any public or nonprofit entity that led a surface transportation system funding alternatives pilot project under section 6020 of the Fixing America's Surface Transportation Act (23 U.S.C. 503 note; Public Law 114-94);

(3) Representatives of the trucking industry, including owner-operator independent drivers;

(4) Data security experts with expertise in personal privacy;

(5) Academic experts on surface transportation systems;

(6) Consumer advocates, including privacy experts;

(7) Advocacy groups focused on equity;

(8) Owners of motor vehicle fleets;

(9) Owners and operators of toll facilities;

(10) Representatives of the transit industry, including agencies and entities engaged in mobility on demand or accessible multimodal transportation;

(11) Tribal groups or representatives; and

(12) Any other representatives or entities, as determined appropriate by the Secretary.

Process and Deadline for Submitting Nominations: Qualified individuals can self-nominate or be nominated by any individual or organization. To be considered for the Advisory Board, nominators should submit the following information:

(1) Name, title, and relevant contact information (including phone, and email address) of the nominee;

(2) A letter of support containing a brief description of why the nominee should be considered for membership;

(3) A short biography of the nominee, including any relevant professional and academic credentials and any prior experience with mileage-based user fees;

(4) For nominees seeking to serve in their individual capacity (and not seeking appointment to represent the interests of a nongovernmental entity; a recognizable group of persons or nongovernmental entities such as an industry sector or labor union; or State or local governments), an affirmative statement that the nominee is not a federally registered lobbyist, and that the nominee understands that if appointed, the nominee will not be allowed to continue to serve as an Advisory Board member if the nominee becomes a federally registered lobbyist;

(5) An affirmative statement from the nominee of their availability and willingness to serve on the Advisory Board. It is anticipated that board members will serve a 2-year term with the potential for reappointment. Initially, board members will be expected to participate in quarterly meetings. Additional meetings may be required.

(6) An affirmative statement from the nominee of their willingness and ability to serve as the chairperson for the Advisory Board, which will require additional time commitment beyond simple membership. Chairperson duties are described in DOT Order 1120.3 D, “Committee Management Policy and Procedures.”

Please do not send company, trade association, or organization brochures or any other information. Materials submitted should total three pages or less, not including any letter(s) of support. Should more information be needed, DOT staff will contact the nominee, obtain information from the nominee's past affiliations, or obtain information from publicly available sources, such as the internet.

It is important to recognize that interested parties who are not selected to membership on the Advisory Board can make valuable contributions to the work of the Advisory Board in any of several ways. Interested persons shall be permitted to attend, appear before, or file statements with any advisory committee, subject to such reasonable rules or regulations as the FHWA Administrator may prescribe.

Any member of the public is welcome to attend Advisory Board meetings, and, as provided in FACA, speak to the Advisory Board. Time will be set aside during each meeting for this purpose, consistent with the Advisory Board's need for sufficient time to complete its deliberations.

All nomination materials should be emailed to NVPMF@dot.gov, faxed to the attention of Angela Fogle at (202) 366-0076, or mailed to Angela Fogle, Federal Highway Administration, Office of Operations Transportation Management, Room E86-204, 1200 New Jersey Avenue SE, Washington, DC 20590. Nominations must be received by November 17, 2023. Nominees selected for appointment to the Advisory Board will be notified by return email and by a letter of appointment.

A selection team comprising representatives from several DOT offices and, potentially, members of the U.S. Department of the Treasury will review the nomination packages. The selection team will make recommendations regarding membership to the Secretary through the FHWA Administrator based on evaluation criteria including: (1) professional or academic expertise, experience, and knowledge; (2) stakeholder representation; and (3) demonstrated skills working in committees and advisory panels. Some members may have qualifications permitting them to fill multiple member representation positions. The FHWA Administrator will submit a list of recommended candidates to the Secretary for review and selection of Advisory Board members.

Nominations are open to all individuals without regard to race, color, religion, sex, national origin, age, mental or physical handicap, marital status, or sexual orientation. To ensure that recommendations to the Secretary consider the needs of the diverse groups served by DOT, membership shall include, to the extent practicable, individuals with demonstrated ability to represent disadvantaged and under-represented groups.

Shailen P. Bhatt,
Administrator, Federal Highway Administration.

[FR Doc. 2023-21745 Filed 10-2-23; 8:45 am]

BILLING CODE 4910-22-P